GENERAL SERVICES ADMINISTRATION

[Notice-MV-2019-02; Docket No. 2019-0002; Sequence No. 30]

Notice of Announcement of GSA Leasing Forum

AGENCY: Office of Governmentwide Policy (OGP), General Services Administration (GSA).

ACTION: Meeting notice.

SUMMARY: The General Services Administration (GSA) is committed to fostering productive relationships between GSA and its industry partners. Toward that end, the GSA Office of Leasing within GSA's Public Buildings Service (PBS) is working with GSA's Office of the Procurement Ombudsman to host a GSA Leasing Forum in February 2020. The target audience for this event is the Office of Leasing's industry partners. In order to ensure that the GSA Leasing Forum is meaningful and effective, PBS is hosting a virtual Roundtable discussion to identify leasing topics of interest to GSA's industry partners.

DATES: The Roundtable discussion will be held on Wednesday, December 18, 2019, from 3:00 p.m. to 4:30 p.m., Eastern Daylight Time (EDT). The Meeting Space line will open up at 2:45 p.m., EDT, and the Roundtable session will start promptly at 3:00 p.m., EDT. Attendees must be registered to participate. Participation will be through a moderated virtual messaging chat function Meeting Space.

ADDRESSES: The meeting will be held virtually and the Meeting Space call-in information will be made available to registrants. Industry partners wishing to virtually attend and participate in this Roundtable event must register by Tuesday, December 17, 2019, at https://interact.gsa.gov/event/pbs-leasing-roundtable-industry-engagement-event. Registration is free and based on space availability.

Members of the press, in addition to registering for this event, must also RSVP to press@gsa.gov by December 11, 2019.

FOR FURTHER INFORMATION CONTACT: Lance Feiner at 202-208-6155 or lance.feiner@gsa.gov.

SUPPLEMENTARY INFORMATION:

Background

PBS is seeking to build productive relationships with its industry partners by seeking industry input and contributions to allow for more meaningful and productive interactions during industry day events. PBS invites industry representatives from the leasing community to share thoughts, major topics of interest, and challenges that your company or industry faces with regard to GSA's leasing program. PBS intends to use the information gathered from this Roundtable event to inform the planning of its GSA Leasing Forum scheduled for February 24, 2020.

GSA is particularly interested in responses to the following questions:

• What topics would be of interest to you during a GSA Leasing Forum?

• Are there any specific challenges your organization faces in regards to GSA leasing?

• What is GSA Leasing doing well and what could GSA Leasing do better?

Format

A Moderator will pose questions to the Roundtable speakers who will respond. Virtual meeting attendees will have the opportunity to send in comments/responses regarding each question through a moderated chat function during the session.

Special Accommodations

This virtual meeting is accessible to people with disabilities. Request for auxiliary aids should be directed to Brian.Snow@gsa.gov by December 4, 2019.

Roundtable Speakers

• Justin Hawes, Division Director, PBS Office of Leasing, GSA Moderator.

• Chad Becker, Principal, ARCO Real Estate Solutions.

• Ron Kendal, Executive Vice President, Easterly Government Properties.

• Joe Delogu, Principal, FD Stonewater.

• Fran Cowan, Vice President, NGP V Fund, LLC.

• Greg Margetich, President, The Margetich Group.

Agenda

• 3:00-3:02: GSA/PBS Welcome.

• 3:02-3:10: Introduction of roundtable participants by GSA Moderator.

• 3:10-4:20: Roundtable discussion, with questions posed by GSA Moderator.

• 4:20-4:30: GSA/PBS Close out.

Maria Swaby,
GSA Procurement Ombudsman, General Services Administration.

[FR Doc. 2019-25556 Filed 11-22-19; 8:45 am]

BILLING CODE 6820-61-P